DEPARTMENT OF HEALTH AND HUMAN SERVICES

National Institutes of Health

Office of The Director, National Institutes of Health; Amended Notice of Meeting

Notice is hereby given of a change in the meeting of the Advisory Committee on Research on Women's Health, October 23, 2019, 09:00 a.m. to October 23, 2019, 04:30 p.m., National Institutes of Health, Natcher Building, Conference Room E1/E2, 45 Center Drive, Bethesda, MD 20892 which was published in the Federal Register on February 08, 2019, 84 FR 2895.

The meeting notice is amended to update the agenda description to include a discussion on the development of a challenge prize for enhancing faculty gender equity and diversity in biomedical sciences. The discussion will include the following topics: Clarifying the goal and fit with a prize model; defining measures of institutional faculty gender equity and diversity; framing challenge description for a broad applicant pool; judging criteria; and identifying barriers.

The meeting is open to the public.

Dated: September 6, 2019.
Miguelina Perez,
Program Analyst, Office of Federal Advisory Committee Policy.

[FR Doc. 2019-19692 Filed 9-11-19; 8:45 am]

BILLING CODE 4140-01-P